DEPARTMENT OF TRANSPORTATION

Federal Highway Administration

Notice of Final Federal Agency Actions on Proposed Highway in California

AGENCY: Federal Highway Administration (FHWA), DOT.

ACTION: Notice of Limitation on Claims for Judicial Review of Actions by FHWA and Other Federal Agencies.

SUMMARY: This notice announces actions taken by the California Department of Transportation (Caltrans) pursuant to its assigned responsibilities under 23 U.S.C. 327 that are final within the meaning of 23 U.S.C. 139(l)(1). These actions relate to the Interstate 80/San Pablo Dam Road Interchange project, located between the El Portal Drive and McBryde Avenue interterchanges Post Miles 3.8 to 5.3), in Contra Costa County, State of California. These actions grant licenses, permits, and approvals for the project.

DATES: By this notice, the FHWA, on behalf of Caltrans, is advising the public of final agency actions subject to 23 U.S.C. 139(l)(1). A claim seeking judicial review of the Federal agency actions on the highway project will be barred unless the claim is filed on or before January 11, 2011. If the Federal law that authorizes judicial review of a claim provides a time period of less than 180 days for filing such claim, then that shorter time period still applies.

FOR FURTHER INFORMATION CONTACT: For Caltrans: Melanie Brent, Chief, Office of Environmental Analysis, District 4, 111 Grand Avenue, Oakland, 9 a.m. to 4 p.m., 510-286-5231, melanie_brent@dot.ca.gov.

SUPPLEMENTARY INFORMATION: Notice is hereby given that Caltrans, pursuant to its assigned responsibilities under 23 U.S.C. 327, and certain Federal agencies have taken final agency actions subject to 23 U.S.C. 139(l)(1) by approving the I-80/San Pablo Dam Road Interchange project in the State of California. The project will reconstruct the I-80/San Pablo Dam Road overcrossing structure, replacing it with a 6-lane bridge that is skewed to the north to separate the Amador Street and eastbound I-80 on-ramp intersections at San Pablo Dam Road. The bridge design will allow for left turns from westbound San Pablo Dam Road onto Amador Street, it will increase the height of the bridge over I-80 to achieve vertical clearance standards that are not currently met, and will minimize encroachment into an unstable slope east of the interchange. The El Portal Drive westbound on-ramp will be closed, and a new westbound on-ramp built at the location of the I-80/El Portal Drive overcrossing. A westbound auxiliary lane will be added between the new El Portal Drive on-ramp and the westbound San Pablo Dam Road off-ramp. The McBryde Avenue off-ramp will be closed, and replaced with a new westbound frontage road that will extend from the San Pablo Dam Road interchange to McBryde Avenue. Bicycle lanes will be provided on the shoulders of the San Pablo Dam Road Overcrossing of I-80. Pedestrian sidewalks will be provided on both sides of the San Pablo Dam Road overcrossing, and along Amador Street within the limits of project construction near San Pablo Dam Road. An existing pedestrian overcrossing of I-80 at Riverside Avenue will be replaced with a new structure that extends across both the freeway and Amador Street, providing a safer crossing for Riverside Elementary School children and other pedestrians. The length of the project is 1.47 miles and the purpose is to improve traffic operations and bicycle/pedestrian access. The actions by the Federal agencies, and the laws under which such actions were taken, are described in the Initial Study with Negative Declaration/Environmental Assessment for the project, approved on February 25, 2010 in the FHWA Finding of No Significant Impact (FONSI) issued on February 25, 2010, and in other documents in the FHWA project records. The Initial Study with Negative Declaration/Environmental Assessment, FONSI, and other project records are available by contacting Caltrans at the address provided above. The FHWA FONSI can be viewed and downloaded from the project Web site at http://www.dot.ca.gov/dist4/envdocs.htm.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Wildlife: Endangered Species Act [16 U.S.C. 1531-1544 and 1536]; Fish and Wildlife Coordination Act [16 U.S.C. 661-667(d)]; Migratory Bird Treaty Act [16 U.S.C. 703-712].

4. Social and Economic: Civil Rights Act of 1964 [42 U.S.C. 2000(d)-2000(d)(1)]; The Uniform Relocation Assistance and Real Property Acquisition Policy Act of 1970, 42 U.S.C. Chapter 61 [Pub. L. 91-646] [Pub. L. 100-17].

5. Water: Clean Water Act [33 U.S.C. 1342]; Safe Drinking Water Act (SDWA) [42 U.S.C. 300(f)-300(j)(6)].

6. Noise: Noise Control Act of 1972 [42 U.S.C. 4901 et seq].

7. Executive Orders: E.O. 11990 Protection of Wetlands; E.O. 11988 Floodplain Management; E.O. 12898 Federal Actions to Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 9, 2010.
Cindy Vigue,
Director, State Programs, Federal Highway Administration, Sacramento, California.

[FR Doc. 2010-17240 Filed 7-14-10; 8:45 am]

BILLING CODE 4910-RY-P